DEPARTMENT OF AGRICULTURE

Agricultural Marketing Service

[Doc. No. AMS-FV-13-0002]

Notice of Funds Availability (NOFA) Inviting Applications for the Specialty Crop Block Grant Program-Farm Bill (SCBGP-FB)

Correction

In notice document 2013-11048, appearing on pages 27178-27181 in the issue of Thursday, May 9, 2013, make the following correction:

In the table appearing on page 27181, in the second column, the second line “85,231.03” should read, “185,231.03”.

[FR Doc. C1-2013-11048 Filed 5-15-13; 8:45 am]

BILLING CODE 1505-01-D